FEDERAL HOUSING FINANCE AGENCY

[No. 2013-N-01]

Federal Home Loan Bank Members Selected for Community Support Review

AGENCY: Federal Housing Finance Agency.

ACTION: Notice.

SUMMARY: The Federal Housing Finance Agency (FHFA) is announcing the Federal Home Loan Bank (Bank) members it has selected for the 2010 eighth round review cycle under the FHFA's community support requirements regulation. This notice also prescribes the deadline by which Bank members selected for review must submit Community Support Statements to FHFA.

DATES: Bank members selected for the review cycle under the FHFA's community support requirements regulation must submit completed Community Support Statements to FHFA on or before March 22, 2013.

ADDRESSES: Bank members selected for the 2010 eighth round review cycle under the FHFA's community support requirements regulation must submit completed Community Support Statements to FHFA either by hard-copy mail at the Federal Housing Finance Agency, Ninth Floor, Housing Mission and Goals (DHMG), 400 Seventh Street SW., Washington, DC 20024, or by electronic mail at hmgcommunitysupportprogram@fhfa.gov.

FOR FURTHER INFORMATION CONTACT: Rona Richardson, Administrative Office Manager, Housing Mission and Goals (DHMG), Federal Housing Finance Agency, by telephone at 202-649-3224, by electronic mail at Rona.Richardson@FHFA.gov, or by hard-copy mail at the Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the March 22, 2013 deadline prescribed in this notice. 12 CFR 1290.2(b)(1)(ii) and (c). On or before February 19, 2013, each Bank will notify the members in its district that have been selected for the 2010 eighth round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 eighth round community support review cycle:

Federal Home Loan Bank of Boston—District 1
Western Connecticut Federal Credit Union | Bethel | Connecticut.
First Bristol Federal Credit Union | Bristol | Connecticut.
Savings Bank of Danbury | Danbury | Connecticut.
American Eagle Federal Credit Union | East Hartford | Connecticut.
Waterbury Connecticut Teachers Federal Credit Union | Middlebury | Connecticut.
Seasons Federal Credit Union | Middletown | Connecticut.
Darien Rowayton Bank | Rowayton | Connecticut.
Mutual Security Credit Union | Shelton | Connecticut.
Stafford Savings Bank | Stafford Springs | Connecticut.
Stamford Federal Credit Union | Stamford | Connecticut.
Sikorsky Financial Credit Union | Stratford | Connecticut.
Torrington Savings Bank | Torrington | Connecticut.
Webster Bank, N.A. | Waterbury | Connecticut.
Maine State Credit Union | Augusta | Maine.
Biddeford Savings Bank | Biddeford | Maine.
Atlantic Regional Federal Credit Union | Brunswick | Maine.
Rainbow Federal Credit Union | Lewiston | Maine.
Central Maine Federal Credit Union | Lewiston | Maine.
TruChoice Federal Credit Union | Portland | Maine.
Evergreen Credit Union | Portland | Maine.
The Provident Bank | Amesbury | Massachusetts.
Brookline Municipal Credit Union | Brookline | Massachusetts.
Harvard University Employees Credit Union | Cambridge | Massachusetts.
Metropolitan Credit Union | Chelsea | Massachusetts.
Pilgrim Bank | Cohasset | Massachusetts.
Delta-Wye Federal Credit Union | Dorchester | Massachusetts.
First Priority Credit Union | East Boston | Massachusetts.
Everett Co-Operative Bank | Everett | Massachusetts.
St. Anne's Credit Union of Fall River | Fall River | Massachusetts.
I-C Federal Credit Union | Fitchburg | Massachusetts.
Holyoke Credit Union | Holyoke | Massachusetts.
Bank of Cape Cod | Hyannis | Massachusetts.
St. Mary's Credit Union | Marlborough | Massachusetts.
Members Plus Credit Union | Medford | Massachusetts.
Charles River Bank | Medway | Massachusetts.
Merrimac Savings Bank | Merrimac | Massachusetts.
Methuen Co-Operative Bank | Methuen | Massachusetts.
Millbury National Bank | Millbury | Massachusetts.
Greylock Federal Credit Union | Pittsfield | Massachusetts.
Central One Federal Credit Union | Shrewsbury | Massachusetts.
Mass Bay Credit Union | South Boston | Massachusetts.
Freedom Credit Union | Springfield | Massachusetts.
Greater Springfield Credit Union | Springfield | Massachusetts.
Wakefield Co-Operative Bank | Wakefield | Massachusetts.
Webster Five Cents Savings Bank | Webster | Massachusetts.
Patriot Community Bank | Woburn | Massachusetts.
Ledyard National Bank | Hanover | New Hampshire.
Northeast Credit Union | Portsmouth | New Hampshire.
Optima Bank & Trust Company | Portsmouth | New Hampshire.
Woodsville Guaranty Savings Bank | Woodsville | New Hampshire.
Dexter Credit Union | Central Falls | Rhode Island.
People's Credit Union | Middletown | Rhode Island.
Coastway Community Bank | Providence | Rhode Island.
River Valley Credit Union | Brattleboro | Vermont.
Vermont State Employees Credit Union | Montpelier | Vermont.
First National Bank of Orwell | Orwell | Vermont.
Peoples Trust Company of St. Albans | St. Albans | Vermont.
Wells River Savings Bank | Wells River | Vermont.
Opportunities Credit Union | Winooski | Vermont.
Federal Home Loan Bank of New York—District 2
Aspire Federal Credit Union | Clark | New Jersey.
1st Colonial National Bank | Collingswood | New Jersey.
First State Bank | Cranford | New Jersey.
North Jersey Community Bank | Englewood | New Jersey.
Credit Union of New Jersey | Ewing | New Jersey.
Bank of New Jersey | Fort Lee | New Jersey.
Indus American Bank | Iselin | New Jersey.
First Choice Bank | Lawrenceville | New Jersey.
Sun National Bank | Medford | New Jersey.
BankAsiana | Palisades Park | New Jersey.
Valley National Bank | Passaic | New Jersey.
The Bank of Princeton | Princeton | New Jersey.
Saddle River Valley Bank | Saddle River | New Jersey.
Hilltop Community Bank | Summit | New Jersey.
Shore Community Bank | Toms River | New Jersey.
Paragon Federal Credit Union | Township of Walls | New Jersey.
Highlands State Bank | Vernon | New Jersey.
Capital Bank of New Jersey | Vineland | New Jersey.
Alma Bank | Astoria | New York.
Ballston Spa National Bank | Ballston Spa | New York.
Esquire Bank | Brooklyn | New York.
The Dime Savings Bank of Williamsburg | Brooklyn | New York.
Patriot Federal Bank | Canajoharie | New York.
Teachers Federal Credit Union | Farmingville | New York.
NewBank | Flushing | New York.
United International Bank | Flushing | New York.
Community National Bank | Great Neck | New York.
Empire National Bank | Islandia | New York.
Gold Coast Bank | Islandia | New York.
Madison National Bank | Merrick | New York.
Global Bank | New York | New York.
Self Reliance New York Federal Credit Union | New York | New York.
Empire State Bank | Newburgh | New York.
Flushing Commercial Bank | North Hyde Park | New York.
The Stissing National Bank of Pine Plains | Pine Plains | New York.
Advantage Federal Credit Union | Rochester | New York.
Genesee Regional Bank | Rochester | New York.
First National Bank of Scotia | Scotia | New York.
National Bank of Delaware County | Walton | New York.
Merchants Commercial Bank | St. Thomas | Virgin Islands.
Federal Home Loan Bank of Pittsburgh—District 3
Chase Bank USA, National Association | Newark | Delaware.
MidCoast Community Bank | Wilmington | Delaware.
Community National Bank of Northwestern Pennsylvania | Albion | Pennsylvania.
Hometown Bank of Pennsylvania | Bedford | Pennsylvania.
First Keystone Community Bank | Berwick | Pennsylvania.
Team Capital Bank | Bethlehem | Pennsylvania.
Metro Bank | Camp Hill | Pennsylvania.
Clarion Federal Credit Union | Clarion | Pennsylvania.
FNB Bank, National Association | Danville | Pennsylvania.
MileStone Bank | Doylestown | Pennsylvania.
Monument Bank | Doylestown | Pennsylvania.
Marquette Savings Bank | Erie | Pennsylvania.
Vantage Point Bank | Fort Washington | Pennsylvania.
First United National Bank | Fryburg | Pennsylvania.
ACNB Bank | Gettysburg | Pennsylvania.
Colonial American Bank | Horsham | Pennsylvania.
First Commonwealth Bank | Indiana | Pennsylvania.
Farmers & Merchants Bank of Western Pennsylvania | Kittanning | Pennsylvania.
Fulton Bank, National Association | Lancaster | Pennsylvania.
First National Bank of Lilly | Lilly | Pennsylvania.
Victory Bank | Limerick | Pennsylvania.
First Priority Bank | Malvern | Pennsylvania.
Citizens National Bank | Meyersdale | Pennsylvania.
Northumberland National Bank | Northumberland | Pennsylvania.
First Northern Bank and Trust Company | Palmerton | Pennsylvania.
Tioga-Franklin Savings Bank | Philadelphia | Pennsylvania.
Valley Green Bank | Philadelphia | Pennsylvania.
Allegent Community Federal Credit Union | Pittsburgh | Pennsylvania.
TriState Capital Bank | Pittsburgh | Pennsylvania.
Landmark Community Bank | Pittston | Pennsylvania.
Utilities Employees Credit Union | Wyomissing | Pennsylvania.
CNB Bank, Inc | Berkeley Springs | West Virginia.
Bank of Charles Town | Charles Town | West Virginia.
Davis Trust Company | Elkins | West Virginia.
Pendleton Community Bank, Inc | Franklin | West Virginia.
Capon Valley Bank | Wardensville | West Virginia.
Cornerstone Bank, Inc | West Union | West Virginia.
Citizens Bank of Weston, Inc | Weston | West Virginia.
Federal Home Loan Bank of Atlanta—District 4
Vantage Bank of Alabama | Albertville | Alabama.
NobleBank & Trust, National Association | Anniston | Alabama.
The First National Bank of Atmore | Atmore | Alabama.
Keystone Bank | Auburn | Alabama.
Trinity Bank | Dothan | Alabama.
Merchants & Farmers Bank of Greene County Alabama | Eutaw | Alabama.
Progress Bank and Trust | Huntsville | Alabama.
Southern Independent Bank | Opp | Alabama.
River Bank & Trust | Prattville | Alabama.
The Samson Banking Company, Inc | Samson | Alabama.
First Cahawba Bank | Selma | Alabama.
Bryant Bank | Tuscaloosa | Alabama.
Tuscaloosa Credit Union | Tuscaloosa | Alabama.
SouthCity Bank | Vestavia Hill | Alabama.
Wright Patman Congressional Federal Credit Union | Washington | District of Columbia.
Legacy Bank of Florida | Boca Raton | Florida.
Flagship Community Bank | Clearwater | Florida.
Bank of Coral Gables, LLC | Coral Gables | Florida.
BBU Bank | Coral Gables | Florida.
First Bank of Miami | Coral Gables | Florida.
Florida Traditions Bank | Dade City | Florida.
Gateway Bank of Florida | Daytona Beach | Florida.
GulfSouth Private Bank | Destin | Florida.
CBC National Bank | Fernandina Beach | Florida.
Stonegate Bank | Fort Lauderdale | Florida.
Campus USA Credit Union | Gainesville | Florida.
First Bank and Trust Company of Indiantown | Indiantown | Florida.
FirstAtlantic Bank | Jacksonville | Florida.
Jax Federal Credit Union | Jacksonville | Florida.
Jax Metro Credit Union | Jacksonville | Florida.
The Jacksonville Bank | Jacksonville | Florida.
Community National Bank of the South | Lake Mary | Florida.
Bank of Central Florida | Lakeland | Florida.
Community Southern Bank | Lakeland | Florida.
USAmeriBank | Largo | Florida.
Heritage Bank of Florida | Lutz | Florida.
First Capital Bank | Marianna | Florida.
Community Bank of the South | Merritt Island | Florida.
Marquis Bank | North Miami Beach | Florida.
FirstCity Bank of Commerce | North Palm Beach | Florida.
First Avenue National Bank | Ocala | Florida.
Gateway Bank of Central Florida | Ocala | Florida.
Florida Bank of Commerce | Orlando | Florida.
McCoy Federal Credit Union | Orlando | Florida.
Seaside National Bank & Trust | Orlando | Florida.
The Citizens Bank of Oviedo | Oviedo | Florida.
1st Manatee Bank | Parrish | Florida.
National Bank of Southwest Florida | Port Charlotte | Florida.
Calusa National Bank | Punta Gorda | Florida.
Insignia Bank | Sarasota | Florida.
ProBank | Tallahassee | Florida.
First East Side Savings Bank | Tamarac | Florida.
American Momentum Bank | Tampa | Florida.
Central Bank | Tampa | Florida.
GTE Federal Credit Union | Tampa | Florida.
GulfShore Bank | Tampa | Florida.
Florida Shores Bank—Southwest | Venice | Florida.
First Bank of the Palm Beaches | West Palm Beach | Florida.
Wheeler County State Bank | Alamo | Georgia.
The Four County Bank | Allentown | Georgia.
The National Bank of Georgia | Athens | Georgia.
Atlantic Capital Bank | Atlanta | Georgia.
Brookhaven Bank | Atlanta | Georgia.
Capitol City Bank & Trust Company | Atlanta | Georgia.
Midtown Bank & Trust Company | Atlanta | Georgia.
Private Bank of Buckhead | Atlanta | Georgia.
Savannah River Banking Company | Augusta | Georgia.
Peoples Bank & Trust | Buford | Georgia.
United National Bank | Cairo | Georgia.
Columbus Community Bank | Columbus | Georgia.
The Commercial Bank | Crawford | Georgia.
Georgia Heritage Bank | Dallas | Georgia.
Bank of Dawson | Dawson | Georgia.
Bank of Terrell | Dawson | Georgia.
First Citizens Bank of Georgia | Dawsonville | Georgia.
Metro City Bank | Doraville | Georgia.
Signature Bank of Georgia | Dunwoody | Georgia.
State Bank of Georgia | Fayetteville | Georgia.
Peach State Bank & Trust | Gainesville | Georgia.
WestSide Bank | Hiram | Georgia.
KeyWorth Bank | Johns Creek | Georgia.
Citizens State Bank | Kingsland | Georgia.
LaGrange Banking Company | LaGrange | Georgia.
First Landmark Bank | Marietta | Georgia.
Liberty First Bank | Monroe | Georgia.
Touchmark National Bank | Norcross | Georgia.
State Bank and Trust Company | Pinehurst | Georgia.
River City Bank | Rome | Georgia.
Vinings Bank | Smyrna | Georgia.
Bank of Valdosta | Valdosta | Georgia.
Guardian Bank | Valdosta | Georgia.
First Covenant Bank | Woodstock | Georgia.
Monument Bank | Bethesda | Maryland.
Old Line National Bank | Bowie | Maryland.
County First Bank | La Plata | Maryland.
APL Federal Credit Union | Laurel | Maryland.
Bank of Ocean City | Ocean City | Maryland.
NRL Federal Credit Union | Oxon Hill | Maryland.
NASA Federal Credit Union | Upper Marlboro | Maryland.
Forest Commercial Bank | Asheville | North Carolina.
Bank of America, National Association | Charlotte | North Carolina.
Carolina Premier Bank | Charlotte | North Carolina.
NewDominion Bank | Charlotte | North Carolina.
Park Sterling Bank | Charlotte | North Carolina.
New Century Bank | Dunn | North Carolina.
KeySource Commercial Bank | Durham | North Carolina.
Square 1 Bank | Durham | North Carolina.
Patriot State Bank | Fuquay-Varina | North Carolina.
Mountain 1st Bank & Trust Company | Hendersonville | North Carolina.
Union Bank & Trust Company | Oxford | North Carolina.
First-Citizens Bank & Trust Company | Raleigh | North Carolina.
Old Town Bank | Waynesville | North Carolina.
VistaBank | Aiken | South Carolina.
Atlantic Community Bank | Bluffton | South Carolina.
Harbor National Bank | Charleston | South Carolina.
South Carolina State Credit Union | Columbia | South Carolina.
BankGreenville | Greenville | South Carolina.
Pinnacle Bank of South Carolina | Greenville | South Carolina.
South Atlantic Bank | Myrtle Beach | South Carolina.
Carolina Alliance Bank | Spartanburg | South Carolina.
Congaree State Bank | West Columbia | South Carolina.
State Department Federal Credit Union | Alexandria | Virginia.
ABNB Federal Credit Union | Chesapeake | Virginia.
First Virginia Community Bank | Fairfax | Virginia.
Virginia Heritage Bank | Fairfax | Virginia.
Bronco Federal Credit Union | Franklin | Virginia.
Capital One Bank (USA), National Association | Glen Allen | Virginia.
Colonial Virginia Bank | Gloucester | Virginia.
Benchmark Community Bank | Kenbridge | Virginia.
Old Dominion National Bank | North Garden | Virginia.
Citizens Community Bank | South Hill | Virginia.
Federal Home Loan Bank of Cincinnati—District 5
Peoples Bank and Trust Company of Clinton County | Albany | Kentucky.
Town Square Bank, Inc | Ashland | Kentucky.
Appalachian Federal Credit Union | Berea | Kentucky.
Farmers State Bank | Booneville | Kentucky.
American Bank & Trust Company, Inc | Bowling Green | Kentucky.
Citizens First Bank, Inc | Bowling Green | Kentucky.
The First National Bank of Brooksville | Brooksville | Kentucky.
Bank of Buffalo | Buffalo | Kentucky.
Bank of Caneyville | Caneyville | Kentucky.
Hometown Bank of Corbin, Inc | Corbin | Kentucky.
The Bank of Kentucky | Crestview Hill | Kentucky.
Ohio Valley Financial Group, Inc | Henderson | Kentucky.
The First National Bank of Jackson | Jackson | Kentucky.
Bank of Lexington | Lexington | Kentucky.
Louisa Community Bank | Louisa | Kentucky.
Eclipse Bank | Louisville | Kentucky.
The Peoples Bank | Marion | Kentucky.
Security Bank & Trust Co | Maysville | Kentucky.
Citizens Bank of Northern Kentucky, Inc | Newport | Kentucky.
First Farmers Bank & Trust Company | Owenton | Kentucky.
The Paducah Bank and Trust Company | Paducah | Kentucky.
Salyersville National Bank | Salyersville | Kentucky.
Peoples Exchange Bank | Stanton | Kentucky.
The Andover Bank | Andover | Ohio.
Sutton Bank | Attica | Ohio.
Insight Bank | Columbus | Ohio.
Heartland Federal Credit Union | Dayton | Ohio.
The State Bank and Trust Company | Defiance | Ohio.
Cooper State Bank | Dublin | Ohio.
Fremont Federal Credit Union | Fremont | Ohio.
Benchmark Bank | Gahanna | Ohio.
The Ohio Valley Bank | Gallipolis | Ohio.
First Financial Bank, National Association | Hamilton | Ohio.
LCNB National Bank | Lebanon | Ohio.
Buckeye Community Bank | Lorain | Ohio.
The Lorain National Bank | Lorain | Ohio.
The Ohio State Bank | Marion | Ohio.
Minster Bank | Minster | Ohio.
The Mt. Victory State Bank | Mount Victory | Ohio.
First National Bank in New Bremen | New Bremen | Ohio.
The Farmers State Bank | New Madison | Ohio.
Great Lakes Credit Union, Inc | Perrysburg | Ohio.
Portage Community Bank | Ravenna | Ohio.
The Richwood Banking Company | Richwood | Ohio.
The First National Bank of Sycamore | Sycamore | Ohio.
First Bank of Ohio | Tiffin | Ohio.
The National Bank and Trust Company | Wilmington | Ohio.
Community Bank & Trust | Ashland City | Tennessee.
Citizens Bank & Trust Co | Atwood | Tennessee.
Southern Heritage Bank | Cleveland | Tennessee.
Southern Bank of Tennessee | Clinton | Tennessee.
Heritage Bank & Trust | Columbia | Tennessee.
First Alliance Bank | Cordova | Tennessee.
Cumberland County Bank | Crossville | Tennessee.
TriStar Bank | Dickson | Tennessee.
Traditions First Bank | Erin | Tennessee.
Cornerstone Community Bank | Hixson | Tennessee.
Dupont Community Credit Union | Hixson | Tennessee.
First South Bank | Jackson | Tennessee.
CedarStone Bank | Lebanon | Tennessee.
Liberty State Bank | Liberty | Tennessee.
Bank of Perry County | Lobelville | Tennessee.
Trust Company Bank | Mason | Tennessee.
First Tennessee Bank National Association | Memphis | Tennessee.
Paragon National Bank | Memphis | Tennessee.
Tri-State Bank of Memphis | Memphis | Tennessee.
Pinnacle National Bank | Nashville | Tennessee.
Community Trust & Banking Company | Ooltewah | Tennessee.
SmartBank | Pigeon Forge | Tennessee.
First Community Bank | Rogersville | Tennessee.
The Citizens Bank of East Tennessee | Rogersville | Tennessee.
First Vision Bank of Tennessee | Tullahoma | Tennessee.
The Traders National Bank | Tullahoma | Tennessee.
Wayne County Bank | Waynesboro | Tennessee.
Federal Home Loan Bank of Indianapolis—District 6
Central National Bank & Trust Company | Attica | Indiana.
Indiana University Credit Union | Bloomington | Indiana.
United Commerce Bank | Bloomington | Indiana.
Wayne Bank and Trust Company | Cambridge City | Indiana.
Chiphone Federal Credit Union | Elkhart | Indiana.
Inova | Elkhart | Indiana.
The Citizens Exchange Bank | Fairmount | Indiana.
Fire Fighter's City County Federal Credit Union | Fort Wayne | Indiana.
Fort Financial Credit Union | Fort Wayne | Indiana.
Midwest American Federal Credit Union | Fort Wayne | Indiana.
Alliance Bank | Francesville | Indiana.
The Friendship State Bank | Friendship | Indiana.
Indiana Community Bank | Goshen | Indiana.
Indiana Business Bank | Indianapolis | Indiana.
Lafayette Community Bank | Lafayette | Indiana.
The Lynnville National Bank | Lynnville | Indiana.
State Bank of Medora | Medora | Indiana.
First Trust Credit Union | Michigan City | Indiana.
Citizens State Bank of New Castle | New Castle | Indiana.
Notre Dame Federal Credit Union | Notre Dame | Indiana.
1st Source Bank | South Bend | Indiana.
CentreBank | Veedersburg | Indiana.
Northstar Bank | Bad Axe | Michigan.
Omni Community Credit Union | Battle Creek | Michigan.
Nstar Community Bank | Bingham Farms | Michigan.
OSB Community Bank | Brooklyn | Michigan.
Chelsea State Bank | Chelsea | Michigan.
Century Bank & Trust Company | Coldwater | Michigan.
Davison State Bank | Davison | Michigan.
Community Alliance Credit Union | Dearborn | Michigan.
First State Bank | Decatur | Michigan.
Level One Bank | Farmington Heights | Michigan.
Bay Bank | Gladstone | Michigan.
Founders Bank & Trust | Grand Rapids | Michigan.
West Michigan Community Bank | Hudsonville | Michigan.
Miner's State Bank | Iron River | Michigan.
EECU a Community Credit Union | Jackson | Michigan.
First National Bank of Michigan | Kalamazoo | Michigan.
Michigan First Credit Union | Lathrup Villa | Michigan.
The Dart Bank | Mason | Michigan.
Huron Valley State Bank | Milford | Michigan.
Lotus Bank | Novi | Michigan.
Oxford Bank | Oxford | Michigan.
The Bank of Northern Michigan | Petoskey | Michigan.
Public Service Credit Union | Romulus | Michigan.
Family First Credit Union | Saginaw | Michigan.
Old Mission Bank | Sault Sainte Marie | Michigan.
Community State Bank of Saint Charles | St. Charles | Michigan.
Firstbank—Saint Johns | St. Johns | Michigan.
Sterling-Van Dyke Credit Union | Sterling Heights | Michigan.
First Michigan Bank | Troy | Michigan.
Wayne-Westland Federal Credit Union | Westland | Michigan.
Federal Home Loan Bank of Chicago—District 7
Old Second National Bank | Aurora | Illinois.
Tompkins State Bank | Avon | Illinois.
Beardstown Savings S.B | Beardstown | Illinois.
Metrobank | Berwyn | Illinois.
Marine Bank & Trust | Carthage | Illinois.
Buena Vista National Bank | Chester | Illinois.
Chester National Bank | Chester | Illinois.
Lakeside Bank | Chicago | Illinois.
Pacific Global Bank | Chicago | Illinois.
The Northern Trust Company | Chicago | Illinois.
State Bank of Chrisman | Chrisman | Illinois.
The First National Bank of Dieterich | Dieterich | Illinois.
Citizens Bank Of Edinburg | Edinburg | Illinois.
The Bank of Edwardsville | Edwardsville | Illinois.
Legence Bank | Eldorado | Illinois.
First Bank & Trust | Evanston | Illinois.
The Fairfield National Bank | Fairfield | Illinois.
Farmers and Mechanics Bank | Galesburg | Illinois.
Glasford State Bank | Glasford | Illinois.
Goodfield State Bank | Goodfield | Illinois.
Farmers National Bank of Griggsville | Griggsville | Illinois.
PeopleFirst Bank | Joliet | Illinois.
Clay County State Bank | Louisville | Illinois.
HomeStar Bank and Financial Service | Manteno | Illinois.
First FSB of Mascoutah | Mascoutah | Illinois.
Great Lakes Bank, National Association | Matteson | Illinois.
Morton Community Bank | Morton | Illinois.
Town Center Bank | New Lenox | Illinois.
LincolnWay Community Bank | New Lenox | Illinois.
Republic Bank of Chicago | Oak Brook | Illinois.
Community Bank of Oak Park River Forest | Oak Park | Illinois.
TrustBank | Olney | Illinois.
First Bank & Trust, S.B | Paris | Illinois.
Bank of Rantoul | Rantoul | Illinois.
The First National Bank & Trust Company of Rochelle | Rochelle | Illinois.
Northwest Bank of Rockford | Rockford | Illinois.
Gateway Community Bank | Roscoe | Illinois.
Area Bank | Rosiclare | Illinois.
Schaumburg Bank & Trust Company, N.A | Schaumburg | Illinois.
1st Community Bank | Sherrard | Illinois.
National Bank of St. Anne | St. Anne | Illinois.
Streator Home Building & Loan Association | Streator | Illinois.
The First National Bank of Sullivan | Sullivan | Illinois.
Savanna-Thomson State Bank | Thomson | Illinois.
Tempo Bank | Trenton | Illinois.
Heritage Bank of Central Illinois | Trivoli | Illinois.
Waterman State Bank | Waterman | Illinois.
NorStates Bank | Waukegan | Illinois.
State Bank Of Illinois | West Chicago | Illinois.
Golden Eagle Community Bank | Woodstock | Illinois.
AbbyBank | Abbotsford | Wisconsin.
Sterling Bank | Barron | Wisconsin.
RidgeStone Bank | Brookfield | Wisconsin.
Cambridge State Bank | Cambridge | Wisconsin.
Community Bank of Cameron | Cameron | Wisconsin.
Community Bank Of Central Wisconsin | Colby | Wisconsin.
Community Bank CBD | Delavan | Wisconsin.
Charter Bank Eau Claire | Eau Claire | Wisconsin.
Royal Credit Union | Eau Claire | Wisconsin.
Marine Credit Union | Fond Du Lac | Wisconsin.
Grand Marsh State Bank | Grand Marsh | Wisconsin.
Farmers State Bank | Hillsboro | Wisconsin.
First American Bank, N.A | Hudson | Wisconsin.
Citizens State Bank | Hudson | Wisconsin.
The Bank of Kaukauna | Kaukauna | Wisconsin.
Bank First National | Manitowoc | Wisconsin.
Investors Community Bank | Manitowoc | Wisconsin.
Farmers & Merchants Bank & Trust | Marinette | Wisconsin.
The Stephenson National Bank & Trust | Marinette | Wisconsin.
Mayville Savings Bank | Mayville | Wisconsin.
McFarland State Bank | McFarland | Wisconsin.
Lincoln Community Bank | Merrill | Wisconsin.
Brewery Credit Union | Milwaukee | Wisconsin.
Monona State Bank | Monona | Wisconsin.
The First National Bank of Niagara | Niagara | Wisconsin.
Oostburg State Bank | Oostburg | Wisconsin.
United Bank | Osseo | Wisconsin.
Pigeon Falls State Bank | Pigeon Falls | Wisconsin.
The Port Washington State Bank | Port Washington | Wisconsin.
Peoples State Bank | Prairie du Chien | Wisconsin.
Bank of Prairie du Sac | Prairie du Sac | Wisconsin.
Community Financial Bank | Prentice | Wisconsin.
Community First Bank | Rosholt | Wisconsin.
Indianhead Credit Union | Spooner | Wisconsin.
Stratford State Bank | Stratford | Wisconsin.
Bank of Turtle Lake | Turtle Lake | Wisconsin.
Town and Country Bank | Watertown | Wisconsin.
First National Bank | Waupaca | Wisconsin.
Peoples State Bank | Wausau | Wisconsin.
Commerce State Bank | West Bend | Wisconsin.
Federal Home Loan Bank of Des Moines—District 8
First Iowa State Bank | Albia | Iowa.
Greater Iowa Credit Union | Ames | Iowa.
Rolling Hills Bank & Trust | Atlantic | Iowa.
Audubon State Bank | Audubon | Iowa.
Benton County State Bank | Blairstown | Iowa.
First State Bank | Britt | Iowa.
Patriot Bank | Brooklyn | Iowa.
Farmers & Merchants Bank & Trust | Burlington | Iowa.
Carroll County State Bank | Carroll | Iowa.
Ohnward Bank & Trust | Cascade | Iowa.
Center Point Bank and Trust Company | Center Point | Iowa.
Iowa State Bank | Clarksville | Iowa.
Citizens First Bank | Clinton | Iowa.
The Clinton National Bank | Clinton | Iowa.
First State Bank of Colfax | Colfax | Iowa.
Frontier Savings Bank | Council Bluff | Iowa.
Northwest Bank & Trust Company | Davenport | Iowa.
Defiance State Bank | Defiance | Iowa.
Bankers Trust Company | Des Moines | Iowa.
American Trust & Savings Bank | Dubuque | Iowa.
Du Trac Community Credit Union | Dubuque | Iowa.
First Security State Bank | Evansdale | Iowa.
Garnavillo Savings Bank | Garnavillo | Iowa.
Union State Bank | Greenfield | Iowa.
United Bank and Trust Company | Hampton | Iowa.
Shelby County State Bank | Harlan | Iowa.
Iowa State Bank | Hull | Iowa.
United Bank of Iowa | Ida Grove | Iowa.
MidWestOne Bank | Iowa City | Iowa.
University of Iowa Community Credit Union | Iowa City | Iowa.
Community Choice Credit Union | Johnston | Iowa.
Primebank | Le Mars | Iowa.
Luana Savings Bank | Luana | Iowa.
Mediapolis Savings Bank | Mediapolis | Iowa.
Central State Bank | Muscatine | Iowa.
Community State Bank | Paton | Iowa.
The First National Bank of Primghar | Primghar | Iowa.
Pioneer Bank | Sergeant Bluff | Iowa.
The Exchange State Bank | Springville | Iowa.
Central Bank | Storm Lake | Iowa.
Farmers Savings Bank & Trust | Traer | Iowa.
American Savings Bank | Tripoli | Iowa.
Farmers Trust & Savings Bank | Williamsburg | Iowa.
Adrian State Bank | Adrian | Minnesota.
Security State Bank | Aitkin | Minnesota.
Annandale State Bank | Annandale | Minnesota.
First State Bank of Ashby | Ashby | Minnesota.
First National Bank | Bagley | Minnesota.
The First National Bank of Battle Lake | Battle Lake | Minnesota.
Sherburne State Bank | Becker | Minnesota.
State Bank of Belle Plaine | Belle Plaine | Minnesota.
Security BankUSA | Bemidji | Minnesota.
Concorde Bank | Blomkest | Minnesota.
Bonanza Valley State Bank | Brooten | Minnesota.
CenBank | Buffalo Lake | Minnesota.
Western National Bank | Cass Lake | Minnesota.
Root River State Bank | Chatfield | Minnesota.
Hometown Community Bank | Cyrus | Minnesota.
Crow River State Bank | Delano | Minnesota.
Share Advantage Credit Union | Duluth | Minnesota.
The Bank of Elk River | Elk River | Minnesota.
Boundary Waters Bank | Ely | Minnesota.
Elysian Bank | Elysian | Minnesota.
Security State Bank of Fergus Falls | Fergus Falls | Minnesota.
State Bank of Gibbon | Gibbon | Minnesota.
Grand Rapids State Bank | Grand Rapids | Minnesota.
State Bank of Hawley | Hawley | Minnesota.
The First National Bank of Herman | Herman | Minnesota.
Commercial Bank of Minnesota | Heron Lake | Minnesota.
Security State Bank of Hibbing | Hibbing | Minnesota.
Woodlands National Bank | Hinckley | Minnesota.
Stearns Bank Holdingford, N.A | Holdingford | Minnesota.
Riverland Bank | Jordan | Minnesota.
Alliance Bank | Lake City | Minnesota.
State Bank of Lismore | Lismore | Minnesota.
Farmers State Bank of Madelia, Inc | Madelia | Minnesota.
Building Trades Federal Credit Union | Maple Grove | Minnesota.
Pioneer Bank | Mapleton | Minnesota.
Summit Community Bank | Maplewood | Minnesota.
Stonebridge Bank | Minneapolis | Minnesota.
Farmers & Merchants State Bank of New York Mills | New York Mills | Minnesota.
Novation Credit Union | Oakdale | Minnesota.
Platinum Bank | Oakdale | Minnesota.
First State Bank of Okabena, Inc | Okabena | Minnesota.
The First State Bank of Red Wing | Red Wing | Minnesota.
Eastwood Bank | Rochester | Minnesota.
Northview Bank | Sandstone | Minnesota.
First State Bank of Sauk Centre | Sauk Centre | Minnesota.
Minnesota National Bank | Sauk Centre | Minnesota.
First Resource Bank | Savage | Minnesota.
Stearns Bank, National Association | St. Cloud | Minnesota.
The Lake Bank | Two Harbors | Minnesota.
Stearns Bank of Upsala, National Association | Upsala | Minnesota.
The First National Bank of Waseca | Waseca | Minnesota.
FortuneBank | Arnold | Missouri.
Mainstreet Bank | Ashland | Missouri.
Adams Dairy Bank | Blue Springs | Missouri.
Vantage Credit Union | Bridgeton | Missouri.
County Bank | Brunswick | Missouri.
Farmers State Bank | Cameron | Missouri.
First Missouri State Bank of Cape County | Cape Girardeau | Missouri.
Hometown Bank, National Association | Carthage | Missouri.
First State Bank and Trust Company, Inc | Caruthersville | Missouri.
Citizens Bank of Charleston | Charleston | Missouri.
Citizens Bank and Trust Company | Chillicothe | Missouri.
Parkside Financial Bank & Trust | Clayton | Missouri.
First National Bank of Clinton | Clinton | Missouri.
Community Bank of El Dorado Springs | El Dorado Springs | Missouri.
Cornerstone Bank | Fargo | Missouri.
Alliance Credit Union | Fenton | Missouri.
Triad Bank | Frontenac | Missouri.
United Security Bank | Fulton | Missouri.
First Bank of Missouri | Gladstone | Missouri.
Superior Bank | Hazelwood | Missouri.
River Region Credit Union | Jefferson City | Missouri.
Commerce Bank | Kansas City | Missouri.
Table Rock Community Bank | Kimberling City | Missouri.
The Farmers Bank of Lincoln | Lincoln | Missouri.
The Bank of Fairport | Maysville | Missouri.
Community Bank & Trust | Neosho | Missouri.
Citizens Bank | New Haven | Missouri.
Bank Star | Pacific | Missouri.
The Paris National Bank | Paris | Missouri.
Bank Star of the LeadBelt | Park Hills | Missouri.
Phelps County Bank | Rolla | Missouri.
Community Bank of Russellville | Russellville | Missouri.
MRV Banks | Sainte Genevieve | Missouri.
Farmers & Merchants Bank | St. Clair | Missouri.
Scottrade Bank | St. Louis | Missouri.
McIntosh County Bank | Ashley | North Dakota.
First Security Bank—West | Beulah | North Dakota.
Kirkwood Bank and Trust Company | Bismarck | North Dakota.
Dakota Western Bank | Bowman | North Dakota.
First State Bank | Buxton | North Dakota.
United Valley Bank | Cavalier | North Dakota.
Western State Bank | Devils Lake | North Dakota.
Cornerstone Bank | Enderlin | North Dakota.
SouthPoint Federal Credit Union | Enderlin | North Dakota.
BlackRidge Bank | Fargo | North Dakota.
The Citizens State Bank of Finley | Finley | North Dakota.
Garrison State Bank and Trust | Garrison | North Dakota.
Harwood State Bank | Harwood | North Dakota.
Union State Bank of Hazen | Hazen | North Dakota.
Kindred State Bank | Kindred | North Dakota.
Commercial Bank of Mott | Mott | North Dakota.
Farmers Security Bank | Washburn | North Dakota.
First National Bank & Trust Company of Williston | Williston | North Dakota.
First State Bank of Wilton | Wilton | North Dakota.
Citizens State Bank of Arlington | Arlington | South Dakota.
First State Bank | Armour | South Dakota.
Community Bank | Avon | South Dakota.
First Fidelity Bank | Burke | South Dakota.
DNB National Bank | Clear Lake | South Dakota.
Farmers State Bank | Hosmer | South Dakota.
Sunrise Bank Dakota | Onida | South Dakota.
Black Hills Community Bank, National Association | Rapid City | South Dakota.
Federal Home Loan Bank of Dallas—District 9
First Western Bank | Booneville | Arkansas.
Decatur State Bank | Decatur | Arkansas.
First State Bank of DeQueen | DeQueen | Arkansas.
The Bank of Fayetteville | Fayetteville | Arkansas.
Central Bank | Little Rock | Arkansas.
Parkway Bank | Portland | Arkansas.
First State Bank | Russellville | Arkansas.
Legacy National Bank | Springdale | Arkansas.
The First National Bank of Wynne | Wynne | Arkansas.
Business First Bank | Baton Rouge | Louisiana.
Investar Bank | Baton Rouge | Louisiana.
Landmark Bank | Clinton | Louisiana.
Gibsland Bank & Trust Company | Gibsland | Louisiana.
The Highlands Bank | Jackson | Louisiana.
Bank of Jena | Jena | Louisiana.
Midsouth Bank, National Association | Lafayette | Louisiana.
South Lafourche Bank & Trust Company | Larose | Louisiana.
Merchants & Farmers Bank & Trust Company | Leesville | Louisiana.
Resource Bank | Mandeville | Louisiana.
Bank of Montgomery | Montgomery | Louisiana.
Community First Bank | New Iberia | Louisiana.
First NBC Bank | New Orleans | Louisiana.
Community Bank | Raceland | Louisiana.
First American Bank & Trust | Vacherie | Louisiana.
Farmers & Merchants Bank | Baldwyn | Mississippi.
DeSoto County Bank | Horn Lake | Mississippi.
Citizens Bank & Trust Company | Marks | Mississippi.
Pike National Bank | McComb | Mississippi.
Bank of Franklin | Meadville | Mississippi.
United Mississippi Bank | Natchez | Mississippi.
BancorpSouth Bank | Tupelo | Mississippi.
Kirtland Federal Union | Albuquerque | New Mexico.
James Polk Stone Community Bank | Portales | New Mexico.
Anahuac National Bank | Anahuac | Texas.
Horizon Bank, SSB | Austin | Texas.
First Bank Texas, SSB | Baird | Texas.
The Blanco National Bank | Blanco | Texas.
Legend Bank, National Association | Bowie | Texas.
Commercial National Bank | Brady | Texas.
First Star Bank, SSB | Bremond | Texas.
First Bank | Burkburnett | Texas.
First State Bank & Trust Company | Carthage | Texas.
Community National Bank & Trust of Texas | Corsicana | Texas.
Stockmens National Bank | Cotulla | Texas.
Texas Exchange Bank, SSB | Crowley | Texas.
Comerica Bank | Dallas | Texas.
First Associations Bank | Dallas | Texas.
First Private Bank of Texas | Dallas | Texas.
Pavillion Bank | Dallas | Texas.
Signature Bank | Dallas | Texas.
State Bank of Texas | Dallas | Texas.
T Bank, National Association | Dallas | Texas.
Amistad Bank | Del Rio | Texas.
First Bank & Trust East Texas | Diboll | Texas.
Pioneer Bank, SSB | Drippings Springs | Texas.
The First National Bank of Eagle Lake | Eagle Lake | Texas.
NewFirst National Bank | El Campo | Texas.
First National Bank of Emory | Emory | Texas.
Enloe State Bank | Cooper | Texas.
Pecos County State Bank | Fort Stockton | Texas.
RiverBend Bank | Fort Worth | Texas.
Security State Bank & Trust | Fredericksburg | Texas.
Collin Bank | Frisco | Texas.
The First State Bank of Gainesville | Gainesville | Texas.
Moody National Bank | Galveston | Texas.
First National Bank | George West | Texas.
First National Bank of Giddings | Giddings | Texas.
The First National Bank of Gilmer | Gilmer | Texas.
Mills County State Bank | Goldthwaite | Texas.
First State Bank | Graham | Texas.
Grand Bank of Texas | Grand Prairie | Texas.
Farmers State Bank | Groesbeck | Texas.
American First National Bank | Houston | Texas.
Icon Bank of Texas, National Association | Houston | Texas.
Texas Bay Area Credit Union | Houston | Texas.
State National Bank of Texas | Iowa Park | Texas.
TIB—The Independent BankersBank | Irving | Texas.
Westbound Bank | Katy | Texas.
First National Bank Texas | Killeen | Texas.
Citizens Bank, National Association | Knox City | Texas.
First Liberty National Bank | Liberty | Texas.
Texas Trust Credit Union | Mansfield | Texas.
FirstCapital Bank of Texas, National Association | Midland | Texas.
Muenster State Bank | Muenster | Texas.
Nixon State Bank | Nixon | Texas.
First Basin Credit Union | Odessa | Texas.
The Ozona National Bank | Ozona | Texas.
Texas Citizens Bank, National Association | Pasadena | Texas.
InTouch Credit Union | Plano | Texas.
Vista Bank | Ralls | Texas.
Vision Bank—Texas | Richardson | Texas.
1st Community Federal Credit Union | San Angelo | Texas.
Firstmark Credit Union | San Antonio | Texas.
Schertz Bank & Trust | Schertz | Texas.
West Texas State Bank | Snyder | Texas.
Texas Community Bank, National Association | Somerset | Texas.
The First National Bank of Stanton | Stanton | Texas.
Texell Credit Union | Temple | Texas.
Amoco Federal Credit Union | Texas City | Texas.
The First National Bank of Trenton | Trenton | Texas.
Alliance Bank Central Texas | Waco | Texas.
Central National Bank | Waco | Texas.
Federal Home Loan Bank of Topeka—District 10
Air Academy Federal Credit Union | Colorado Springs | Colorado.
American National Bank | Denver | Colorado.
Alpine Bank—Glenwood Springs, CO | Glenwood Springs | Colorado.
First National Bank | Hugo | Colorado.
Mancos Valley Bank | Mancos | Colorado.
High Country Bank | Salida | Colorado.
Colorado Community Bank | Yuma | Colorado.
KansasLand Bank | Americus | Kansas.
New Century Bank, National Association | Belleville | Kansas.
Community National Bank & Trust | Chanute | Kansas.
ESB Financial | Emporia | Kansas.
Home Bank & Trust Company of Eureka | Eureka | Kansas.
The Union State Bank | Everest | Kansas.
Armed Forces Bank, National Association | Fort Leavenworth | Kansas.
The Farmers State Bank | Holton | Kansas.
First Commerce Bank | Marysville | Kansas.
First Security Bank & Trust Company | Norton | Kansas.
The Bank | Oberlin | Kansas.
Bank of the Prairie | Olathe | Kansas.
Bank of Prairie Village | Prairie Village | Kansas.
Riley State Bank of Riley | Riley | Kansas.
First State Bank & Trust—Tonganoxie, KS | Tonganoxie | Kansas.
Capital City Bank—Topeka, KS | Topeka | Kansas.
CoreFirst Bank & Trust | Topeka | Kansas.
Fidelity State Bank & Trust Company | Topeka | Kansas.
First National Bank of Washington | Washington | Kansas.
Meritrust Credit Union | Wichita | Kansas.
Pony Express Community Bank—Elwood, KS | St. Joseph | Missouri.
Carson National Bank of Auburn | Auburn | Nebraska.
Farmers & Merchants State Bank | Bloomfield | Nebraska.
Nebraska State Bank & Trust Company | Broken Bow | Nebraska.
Exchange Bank | Gibbon | Nebraska.
First State Bank | Gothenburg | Nebraska.
Bank of Nebraska | La Vista | Nebraska.
West Gate Bank | Lincoln | Nebraska.
Home State Bank | Louisville | Nebraska.
Bank of Mead | Mead | Nebraska.
First Nebraska Educators Credit Union | Omaha | Nebraska.
UP Connection Federal Credit Union | Omaha | Nebraska.
SAC Federal Credit Union | Omaha | Nebraska.
Nebraska State Bank | Oshkosh | Nebraska.
Plattsmouth State Bank | Plattsmouth | Nebraska.
First State Bank | Randolph | Nebraska.
Cattle National Bank & Trust Co | Seward | Nebraska.
First Tri-County Bank | Swanton | Nebraska.
Charter West National Bank | West Point | Nebraska.
Winside State Bank—Winside, NE | Winside | Nebraska.
Vision Bank, National Association | Ada | Oklahoma.
Alva State Bank & Trust Company | Alva | Oklahoma.
Ameristate Bank | Atoka | Oklahoma.
Bank of Beaver City | Beaver | Oklahoma.
Washita State Bank | Burns Flat | Oklahoma.
Bank of Commerce | Chelsea | Oklahoma.
ACB Bank | Cherokee | Oklahoma.
Shamrock Bank, National Association | Coalgate | Oklahoma.
First State Bank | Commerce | Oklahoma.
Bank of Commerce | Duncan | Oklahoma.
First National Bank | Heavener | Oklahoma.
American Exchange Bank | Henryetta | Oklahoma.
Bank 7 | Oklahoma City | Oklahoma.
FAA Employees Credit Union | Oklahoma City | Oklahoma.
Weokie Credit Union | Oklahoma City | Oklahoma.
First National Bank in Pawhuska | Pawhuska | Oklahoma.
First National Bank | Pawnee | Oklahoma.
Firstar Bank, N.A | Sallisaw | Oklahoma.
First National Bank | Seiling | Oklahoma.
First State Bank | Tahlequah | Oklahoma.
Tinker Federal Credit Union | Tinker Air Force Base | Oklahoma.
Peoples Bank | Tulsa | Oklahoma.
First National Bank & Trust Co | Weatherford | Oklahoma.
Welch State Bank—Welch, OK | Welch | Oklahoma.
First National Bank in Wewoka | Wewoka | Oklahoma.
Federal Home Loan Bank of San Francisco—District 11
West Valley National Bank | Avondale | Arizona.
Heritage Bank, N.A | Phoenix | Arizona.
Deer Valley Credit Union | Phoenix | Arizona.
Goldwater Bank, N.A | Scottsdale | Arizona.
Pima Federal Credit Union | Tucson | Arizona.
Vantage West Credit Union | Tucson | Arizona.
Meridian Bank, N.A | Wickenburg | Arizona.
American Plus Bank, N.A | Arcadia | California.
Valley Republic Bank | Bakersfield | California.
Kern Federal Credit Union | Bakersfield | California.
Pacific Oaks Federal Credit Union | Camarillo | California.
First Choice Bank | Cerritos | California.
Northern California National Bank | Chico | California.
Vibra Bank | Chula Vista | California.
Century Housing Corporation | Culver City | California.
Community Valley Bank | El Centro | California.
Folsom Lake Bank | Folsom | California.
Security First Bank | Fresno | California.
Fresno First Bank | Fresno | California.
US Metro Bank | Garden Grove | California.
Pinnacle Bank | Gilroy | California.
Americas United Bank | Glendale | California.
Kings Federal Credit Union | Hanford | California.
First Foundation Bank | Irvine | California.
Pacific Enterprise Bank | Irvine | California.
Plaza Bank | Irvine | California.
California First National Bank | Irvine | California.
California Business Bank | Los Angeles | California.
Open Bank | Los Angeles | California.
Pacific City Bank | Los Angeles | California.
Premier Business Bank | Los Angeles | California.
The Private Bank of California | Los Angeles | California.
Wedbush Bank | Los Angeles | California.
1st Enterprise Bank | Los Angeles | California.
Commonwealth Business Bank | Los Angeles | California.
Partners Bank of California | Mission Viejo | California.
Visterra Credit Union | Moreno Valley | California.
Bank of Napa, N.A | Napa | California.
CommerceWest Bank, N.A | Newport Beach | California.
One PacificCoast Bank, FSB | Oakland | California.
Avidbank | Palo Alto | California.
Heritage Community Credit Union | Rancho Cordova | California.
South County Bank, N.A | Rancho Santa Margarita | California.
Opus Bank | Redondo Beach | California.
Bank of Rio Vista | Rio Vista | California.
Pacific Alliance Bank | Rosemead | California.
Community 1st Bank | Roseville | California.
Sacramento Credit Union | Sacramento | California.
San Bernardino School Employees Federal Credit Union | San Bernardino | California.
San Diego Trust Bank | San Diego | California.
BofI Federal Bank | San Diego | California.
North County Credit Union | San Diego | California.
Presidio Bank | San Francisco | California.
JPMorgan Bank and Trust Company, N.A | San Francisco | California.
Heritage Bank of Commerce | San Jose | California.
United American Bank | San Mateo | California.
Tri-Valley Bank | San Ramon | California.
Orange County's Credit Union | Santa Ana | California.
American Riviera Bank | Santa Barbara | California.
The Bank of Santa Barbara | Santa Barbara | California.
Lighthouse Bank | Santa Cruz | California.
Community First Credit Union | Santa Rosa | California.
Bank of Agriculture and Commerce | Stockton | California.
Star One Credit Union | Sunnyvale | California.
KeyPoint Credit Union | Sunnyvale | California.
Tustin Community Bank | Tustin | California.
Universal City Studios Credit Union | Universal City | California.
Ventura County Credit Union | Ventura | California.
Suncrest Bank | Visalia | California.
Valley Business Bank | Visalia | California.
Saigon National Bank | Westminster | California.
Yolo Federal Credit Union | Woodland | California.
Sierra Central Credit Union | Yuba City | California.
One Nevada Credit Union | Las Vegas | Nevada.
Wells Fargo Financial, National Bank | Las Vegas | Nevada.
Valley Bank of Nevada | North Las Vegas | Nevada.
Federal Home Loan Bank of Seattle—District 12
Alaska USA Federal Credit Union | Anchorage | Alaska.
Coast360 Federal Credit Union | Hagatna | Guam.
West Oahu Community Federal Credit Union | Barbers Point | Hawaii.
Pacific Rim Bank | Honolulu | Hawaii.
Hawaii Community Federal Credit Union | Kailua-Kona | Hawaii.
Idaho Independent Bank | Coeur d'alene | Idaho.
Idaho First Bank | McCall | Idaho.
Belt Valley Bank | Belt | Montana.
Bank of Bozeman | Bozeman | Montana.
First Madison Valley Bank | Ennis | Montana.
First State Bank of Forsyth | Forsyth | Montana.
Montana State Bank | Plentywood | Montana.
Oregon Community Credit Union | Eugene | Oregon.
Lewis & Clark Bank | Oregon City | Oregon.
Bank of America Oregon, National Association | Portland | Oregon.
Point West Credit Union | Portland | Oregon.
Willamette Valley Bank | Salem | Oregon.
St. Helens Community Federal Credit Union | St. Helens | Oregon.
TLC Federal Credit Union | Tillamook | Oregon.
Pacific West Bank | West Linn | Oregon.
Woodlands Commercial Corporation | Salt Lake City | Utah.
Morgan Stanley Bank, National Association | Salt Lake City | Utah.
Proficio Bank | Salt Lake City | Utah.
University First Federal Credit Union | Salt Lake City | Utah.
Jordan Federal Credit Union | Sandy | Utah.
Foundation Bank | Bellevue | Washington.
Business Bank of Skagit County | Burlington | Washington.
Coastal Community Bank | Everett | Washington.
Mountain Pacific Bank | Everett | Washington.
MountainCrest Credit Union | Everett | Washington.
Northwest Commercial Bank | Lakewood | Washington.
Twin City Bank | Longview | Washington.
Red Canoe Credit Union | Longview | Washington.
UniBank | Lynnwood | Washington.
Thurston First Bank | Olympia | Washington.
Gesa Credit Union | Richland | Washington.
First Sound Bank | Seattle | Washington.
School Employees Credit Union of Washington | Seattle | Washington.
State Bank Northwest | Spokane | Washington.
Commencement Bank | Tacoma | Washington.
Baker-Boyer National Bank | Walla Walla | Washington.
Jonah Bank of Wyoming | Casper | Wyoming.
Cheyenne-Laramie County Employees Federal Credit Union | Cheyenne | Wyoming.
Wyoming Bank & Trust | Cheyenne | Wyoming.
Summit National Bank | Hulett | Wyoming.

II. Public Comments

To encourage the submission of public comments on the community support performance of Bank members, on or before February 19, 2013, each Bank will notify its Advisory Council and nonprofit housing developers, community groups, and other interested parties in its district of the members selected for community support review in the 2010 eighth round review cycle. 12 CFR 1290.2(b)(2)(ii). In reviewing a member for community support compliance, FHFA will consider any public comments it has received concerning the member. 12 CFR 1290.2(d). To ensure consideration by FHFA, comments concerning the community support performance of members selected for the 2010 eighth round review cycle must be delivered to FHFA, either by hard-copy mail at the Federal Housing Finance Agency, Ninth Floor, Housing Mission and Goals (DHMG), 400 Seventh Street SW., Washington, DC 20024, or by electronic mail to hmgcommunitysupportprogram@fhfa.gov on or before the March 22, 2013 deadline for submission of Community Support Statements.

Dated: January 30, 2013.
Edward J. DeMarco,
Acting Director, Federal Housing Finance Agency.

[FR Doc. 2013-02417 Filed 2-4-13; 8:45 am]

BILLING CODE 8070-01-P